DEPARTMENT OF ENERGY

Federal Energy Regulatory Commission

[Docket No. CP01-418-000]

B-R Pipeline Company; Notice of Application

October 22, 2001.

Take notice that on July 27, 2001, B-R Pipeline Company (B-R) tendered for filing pursuant to section 7 of the Natural Gas Act and Part 284, Subparts G and J, of the Commission's Regulations an application for blanket certificates of public convenience and necessity. Copies of this filing are on file with the Commission and are available for public inspection in the Public Reference Room of the Commission's offices. Copies of this filing are on file with the Commission and are available for public inspection. This filing may also be viewed on the Web at http://www.ferc.gov using the “RIMS” link, select “Docket#” and follow the instructions (call 202-208-2222 for assistance).

B-R also requests waiver of certain Commission regulations, as more fully set forth in its application. B-R states that the waivers are needed to avoid undue compliance burdens under the unique circumstances presented.

Any person desiring to be heard or to protest this application should file a motion to intervene or protest with the Federal Energy Regulatory Commission, Washington, DC 20426, on or before November 12, 2001, in accordance with the requirements of the Commission's Rules of Practice and Procedure (18 CFR 385.214 or 385.211). All protests filed with the Commission will be considered by the Commission in determining the appropriate action to be taken, but will not serve to make the protestants parties to the proceeding. Any person wishing to become a party to the proceeding or to participate as a party in any hearing therein must file a petition to intervene in accordance with the Commission's Rules. Comments, protests, and interventions may be filed electronically via the Internet in lieu of paper. See 18 CFR 385.2001(a)(1)(iii) and the instructions on the Commission's web site under “e-Filing” link.

David P. Boergers,
Secretary.

[FR Doc. 01-26969 Filed 10-25-01; 8:45 am]

BILLING CODE 6717-01-P